DEPARTMENT OF TRANSPORTATION

Federal Aviation Administration

14 CFR Part 95

[Docket No. 30949; Amdt. No. 512]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, April 3, 2014.

FOR FURTHER INFORMATION CONTACT: Harry Hodges, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on February 28, 2014.
John Duncan,
Deputy Director, Flight Standards Service.

Adoption of the Amendment

Accordingly, pursuant to the authority delegated to me by the Administrator, part 95 of the Federal Aviation Regulations (14 CFR part 95) is amended as follows effective at 0901 UTC, April 03, 2014.

PART 95 [AMENDED]

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 512 effective date April 03, 2014]
From | To | MEA | MAA
§ 95.3000 Low Altitude RNAV Routes
§ 95.3240 RNAV Route T240 Is Amended To Read in Part
TEGDE, AK FIX | DERIK, AK FIX | 9700 | 17500
* 4700—MCA DERIK, AK FIX, S BND
§ 95.3290 RNAV Route T290 Is Added To Read
SCAIL, AL WP | BBAIT, GA WP | 4000 | 17500
BBAIT, GA WP | BBASS, GA WP | 3500 | 17500
BBASS, GA WP | BBOAT, GA WP | 2500 | 17500
BBOAT, GA WP | BOBBR, GA WP | 2400 | 17500
BOBBR, GA WP | JACET, GA WP | 2400 | 17500
§ 95.3292 RNAV Route T292 Is Added To Read
RKMRT, GA WP | POLLL, GA WP | 2900 | 17500
POLLL, GA WP | CCATT, GA WP | 3600 | 17500
CCATT, GA WP | REELL, GA WP | 3700 | 17500
REELL, GA WP | TRREE, GA WP | 2600 | 17500
TRREE, GA WP | JACET, GA WP | 2400 | 17500
§ 95.3293 RNAV Route T293 Is Added To Read
CHUTT, AL WP | NFTRY, GA WP | 2600 | 17500
NFTRY, GA WP | RTLRY, GA WP | 3200 | 17500
RTLRY, GA WP | HONRR, GA WP | 3300 | 17500
HONRR, GA WP | POLLL, GA WP | 3300 | 17500
POLLL, GA WP | DAISI, GA WP | 4700 | 17500
§ 95.3294 RNAV Route T294 Is Added To Read
HEFIN, AL FIX | BBAIT, GA WP | 4000 | 17500
BBAIT, GA WP | JMPPR, GA WP | 3500 | 17500
JMPPR, GA WP | GRANT, GA FIX | 3000 | 17500
§ 95.3296 RNAV Route T296 Is Added To Read
JMPPR, GA WP | BBASS, GA WP | 3000 | 17500
BBASS, GA WP | TATRS, GA WP | 2500 | 17500
TATRS, GA WP | TACKL, GA WP | 2500 | 17500
§ 95.3297 RNAV Route T297 Is Added To Read
PAIRA, GA WP | NFTRY, GA WP | 3400 | 17500
NFTRY, GA WP | HEFIN, AL FIX | 3400 | 17500
HEFIN, AL FIX | RKMRT, GA WP | 3200 | 17500
RKMRT, GA WP | CHTTE, GA WP | 2900 | 17500
CHTTE, GA WP | DAISI, GA WP | 4000 | 17500
DAISI, GA WP | AWSON, GA FIX | 5000 | 17500
AWSON, GA FIX | REELL, GA WP | 3300 | 17500
§ 95.3319 RNAV Route T319 Is Added To Read
CCLAY, GA WP | DUNCS, GA WP | 2700 | 17500
DUNCS, GA WP | SHURT, GA WP | 2700 | 17500
SHURT, GA WP | KLOWD, GA WP | 3100 | 17500
KLOWD, GA WP | BLEWW, GA WP | 3100 | 17500
§ 95.3321 RNAV Route T321 Is Added To Read
BBOAT, GA WP | TACKL, GA WP | 2500 | 17500
TACKL, GA WP | REELL, GA WP | 2600 | 17500
REELL, GA WP | BIGNN, GA WP | 3700 | 17500
§ 95.3323 RNAV Route T323 Is Added To Read
CROCS, GA WP | BOBBR, GA WP | 2300 | 17500
BOBBR, GA WP | BIGNN, GA WP | 2700 | 17500
BIGNN, GA WP | ZPPLN, NC WP | 7000 | 17500
ZPPLN, NC WP | HIGGI, NC WP | 7400 | 17500
§ 95.4000 High Altitude RNAV Routes
§ 95.4022 RNAV Route Q22 Is Amended To Read in Part
GUSTI, LA FIX | OYSTY, LA FIX | * 18000 | 45000
* 18000—GNSS MEA
* DME/DME/IRU MEA
OYSTY, LA FIX | ACMES, AL WP | * 18000 | 45000
* 18000—GNSS MEA
* DME/DME/IRU MEA
ACMES, AL WP | CATLN, AL FIX | * 18000 | 45000
* 18000—GNSS MEA
* DME/DME/IRU MEA
Is Amended By Adding
CATLN, AL FIX | TWOUP, GA WP | * 18000 | 45000
* 18000—GNSS MEA
* DME/DME/IRU MEA
TWOUP, GA WP | SPARTANBURG, SC VORTAC | * 18000 | 45000
* 18000—GNSS MEA
* DME/DME/IRU MEA
SPARTANBURG, SC VORTAC | NYBLK, NC WP | * 18000 | 45000
* 18000—GNSS MEA
* DME/DME/IRU MEA
NYBLK, NC WP | MASHI, NC WP | * 18000 | 45000
* 18000—GNSS MEA
* DME/DME/IRU MEA
MASHI, NC WP | KIDDO, NC WP | * 18000 | 45000
* 18000—GNSS MEA
* DME/DME/IRU MEA
KIDDO, NC WP | OMENS, VA WP | * 18000 | 45000
* 18000—GNSS MEA
* DME/DME/IRU MEA
OMENS, VA WP | BEARI, VA WP | * 18000 | 45000
* 18000—GNSS MEA
* DME/DME/IRU MEA
§ 95.4039 RNAV Route Q39 Is Added To Read
CLAWD, NC WP | TARCI, WV FIX | * 18000 | 45000
* 18000—GNSS MEA
* DME/DME/IRU MEA
§ 95.4040 RNAV Route Q40 Is Amended To Read in Part
ALEXANDRIA, LA VORTAC | DOOMS, MS WP | * 18000 | 45000
* 18000—GNSS MEA
* DME/DME/IRU MEA
DOOMS, MS WP | WINAP, MS WP | * 18000 | 45000
* 18000—GNSS MEA
* DME/DME/IRU MEA
WINAP, MS WP | MISLE, AL WP | * 18000 | 45000
* 18000—GNSS MEA
* DME/DME/IRU MEA
Is Amended By Adding
MISLE, AL WP | BFOLO, AL WP | * 18000 | 45000
* 18000—GNSS MEA
* DME/DME/IRU MEA
BFOLO, AL WP | NIOLA, GA WP | * 18000 | 45000
* 18000—GNSS MEA
* DME/DME/IRU MEA
NIOLA, GA WP | JAARE, TN WP | * 18000 | 45000
* 18000—GNSS MEA
* DME/DME/IRU MEA
JAARE, TN WP | OJESS, TN WP | * 18000 | 45000
* 18000—GNSS MEA
* DME/DME/IRU MEA
OJESS, TN WP | ALEAN, VA WP | * 18000 | 45000
* 18000—GNSS MEA
* DME/DME/IRU MEA
ALEAN, VA WP | FEEDS, VA WP | * 18000 | 45000
* 18000—GNSS MEA
* DME/DME/IRU MEA
FEEDS, VA WP | MAULS, VA WP | * 18000 | 45000
* 18000—GNSS MEA
* DME/DME/IRU MEA
MAULS, VA WP | FANPO, VA WP | * 18000 | 45000
* 18000—GNSS MEA
* DME/DME/IRU MEA
§ 95.4050 RNAV Route Q50 Is Added To Read
LOUISVILLE, KY VORTAC | HELUB, KY WP | * 18000 | 45000
* 18000—GNSS MEA
* DME/DME/IRU MEA
HELUB, KY WP | ENGRA, KY WP | * 18000 | 45000
* 18000—GNSS MEA
* DME/DME/IRU MEA
ENGRA, KY WP | IBATE, KY WP | * 18000 | 45000
* 18000—GNSS MEA
* DME/DME/IRU MEA
IBATE, KY WP | CUBIM, KY WP | * 18000 | 45000
* 18000—GNSS MEA
* DME/DME/IRU MEA
§ 95.4052 RNAV Route Q52 Is Added To Read
CHOPZ, GA WP | IPTAY, GA WP | * 18000 | 45000
* 18000—GNSS MEA
* DME/DME/IRU MEA
IPTAY, GA WP | AWYAT, SC WP | * 18000 | 45000
* 18000—GNSS MEA
* DME/DME/IRU MEA
AWYAT, SC WP | COLZI, NC FIX | * 18000 | 45000
* 18000—GNSS MEA
* DME/DME/IRU MEA
§ 95.4054 RNAV Route Q54 Is Added To Read
GREENWOOD, SC VORTAC | NYLLA, SC WP | * 18000 | 45000
* 18000—GNSS MEA
* DME/DME/IRU MEA
NYLLA, SC WP | CHYPS, NC WP | * 18000 | 45000
* 18000—GNSS MEA
* DME/DME/IRU MEA
CHYPS, NC WP | AHOEY, NC WP | * 18000 | 45000
* 18000—GNSS MEA
* DME/DME/IRU MEA
AHOEY, NC WP | RAANE, NC WP | * 18000 | 45000
* 18000—GNSS MEA
* DME/DME/IRU MEA
RAANE, NC WP | NUTZE, NC WP | * 18000 | 45000
* 18000—GNSS MEA
* DME/DME/IRU MEA
§ 95.4056 RNAV Route Q56 Is Added To Read
CATLN, AL FIX | KBLER, GA WP | * 18000 | 45000
* 18000—GNSS MEA
* DME/DME/IRU MEA
KBLER, GA WP | KELLN, SC WP | * 18000 | 45000
* 18000—GNSS MEA
* DME/DME/IRU MEA
KELLN, SC WP | KTOWN, NC WP | * 18000 | 45000
* 18000—GNSS MEA
* DME/DME/IRU MEA
KTOWN, NC WP | BYSCO, NC WP | * 18000 | 45000
* 18000—GNSS MEA
* DME/DME/IRU MEA
BYSCO, NC WP | JOOLI, NC WP | * 18000 | 45000
* 18000—GNSS MEA
* DME/DME/IRU MEA
JOOLI, NC WP | NUUMN, NC WP | * 18000 | 45000
* 18000—GNSS MEA
* DME/DME/IRU MEA
NUUMN, NC WP | ORACL, NC WP | * 18000 | 45000
* 18000—GNSS MEA
* DME/DME/IRU MEA
ORACL, NC WP | KIWII, VA WP | * 18000 | 45000
* 18000—GNSS MEA
* DME/DME/IRU MEA
§ 95.4058 RNAV Route Q58 Is Added To Read
KELLN, SC WP | GLOVR, NC FIX | * 18000 | 45000
* 18000—GNSS MEA
* DME/DME/IRU MEA
GLOVR, NC FIX | LUMAY, NC WP | * 18000 | 45000
* 18000—GNSS MEA
* DME/DME/IRU MEA
LUMAY, NC WP | STUKI, NC WP | * 18000 | 45000
* 18000—GNSS MEA
* DME/DME/IRU MEA
STUKI, NC WP | PEETT, NC WP | * 18000 | 45000
* 18000—GNSS MEA
* DME/DME/IRU MEA
§ 95.4060 RNAV Route Q60 Is Added To Read
SPARTANBURG, SC VORTAC | BYJAC, NC FIX | * 18000 | 45000
* 18000—GNSS MEA
* DME/DME/IRU MEA
BYJAC, NC FIX | EVING, NC WP | * 18000 | 45000
* 18000—GNSS MEA
* DME/DME/IRU MEA
EVING, NC WP | LOOEY, VA WP | * 18000 | 45000
* 18000—GNSS MEA
* DME/DME/IRU MEA
LOOEY, VA WP | JAXSN, VA FIX | * 18000 | 45000
* 18000—GNSS MEA
* DME/DME/IRU MEA
§ 95.4063 RNAV Route Q63 Is Added To Read
DOOGE, VA WP | HAPKI, KY WP | * 18000 | 45000
* 18000—GNSS MEA
* DME/DME/IRU MEA
HAPKI, KY WP | TONIO, KY WP | * 18000 | 45000
* 18000—GNSS MEA
* DME/DME/IRU MEA
TONIO, KY WP | OCASE, KY WP | * 18000 | 45000
* 18000—GNSS MEA
* DME/DME/IRU MEA
OCASE, KY WP | HEVAN, IN WP | * 18000 | 45000
* 18000—GNSS MEA
* DME/DME/IRU MEA
§ 95.4064 RNAV Route Q64 Is Added To Read
CATLN, AL FIX | FIGEY, GA WP | * 18000 | 45000
* 18000—GNSS MEA
* DME/DME/IRU MEA
FIGEY, GA WP | GREENWOOD, SC VORTAC | * 18000 | 45000
* 18000—GNSS MEA
* DME/DME/IRU MEA
GREENWOOD, SC VORTAC | DARRL, SC FIX | * 18000 | 45000
* 18000—GNSS MEA
* DME/DME/IRU MEA
DARRL, SC FIX | IDDAA, NC WP | * 18000 | 45000
* 18000—GNSS MEA
* DME/DME/IRU MEA
IDDAA, NC WP | TAR RIVER, NC VORTAC | * 18000 | 45000
* 18000—GNSS MEA
* DME/DME/IRU MEA
§ 95.4065 RNAV Route Q65 Is Added To Read
JEFOI, GA WP | CESKI, GA WP | * 18000 | 45000
* 18000—GNSS MEA
* DME/DME/IRU MEA
CESKI, GA WP | DAREE, GA WP | * 18000 | 45000
* 18000—GNSS MEA
* DME/DME/IRU MEA
DAREE, GA WP | LORNN, TN WP | * 18000 | 45000
* 18000—GNSS MEA
* DME/DME/IRU MEA
LORNN, TN WP | SOGEE, TN WP | * 18000 | 45000
* 18000—GNSS MEA
* DME/DME/IRU MEA
SOGEE, TN WP | ENGRA, KY WP | * 18000 | 45000
* 18000—GNSS MEA
* DME/DME/IRU MEA
ENGRA, KY WP | OCASE, KY WP | * 18000 | 45000
* 18000—GNSS MEA
* DME/DME/IRU MEA
OCASE, KY WP | ROSEWOOD, OH VORTAC | * 18000 | 45000
* 18000—GNSS MEA
* DME/DME/IRU MEA
§ 95.4066 RNAV Route Q66 Is Added To Read
LITTLE ROCK, AR VORTAC | CIVKI, AR WP | * 18000 | 45000
* 18000—GNSS MEA
* DME/DME/IRU MEA
CIVKI, AR WP | RICKX, AR WP | * 18000 | 45000
* 18000—GNSS MEA
* DME/DME/IRU MEA
RICKX, AR WP | TROVE, TN WP | * 18000 | 45000
* 18000—GNSS MEA
* DME/DME/IRU MEA
TROVE, TN WP | BAZOO, TN WP | * 18000 | 45000
* 18000—GNSS MEA
* DME/DME/IRU MEA
BAZOO, TN WP | METWO, TN WP | * 18000 | 45000
* 18000—GNSS MEA
* DME/DME/IRU MEA
METWO, TN WP | MXEEN, TN WP | * 18000 | 45000
* 18000—GNSS MEA
* DME/DME/IRU MEA
MXEEN, TN WP | ALEAN, VA WP | * 18000 | 45000
* 18000—GNSS MEA
* DME/DME/IRU MEA
§ 95.4067 RNAV Route Q67 Is Added To Read
SMTTH, TN WP | CEMEX, KY WP | * 18000 | 45000
* 18000—GNSS MEA
* DME/DME/IRU MEA
CEMEX, KY WP | IBATE, KY WP | * 18000 | 45000
* 18000—GNSS MEA
* DME/DME/IRU MEA
IBATE, KY WP | TONIO, KY WP | * 18000 | 45000
* 18000—GNSS MEA
* DME/DME/IRU MEA
TONIO, KY WP | HENDERSON, WV VORTAC | * 18000 | 45000
* 18000—GNSS MEA
* DME/DME/IRU MEA
§ 95.4069 RNAV Route Q69 Is Added To Read
BLAAN, SC WP | RYCKI, NC WP | * 18000 | 45000
* 18000—GNSS MEA
* DME/DME/IRU MEA
RYCKI, NC WP | LUNDD, VA WP | * 18000 | 45000
* 18000—GNSS MEA
* DME/DME/IRU MEA
LUNDD, VA WP | ILLSA, VA WP | * 18000 | 45000
* 18000—GNSS MEA
* DME/DME/IRU MEA
ILLSA, VA WP | EWESS, WV WP | * 18000 | 45000
* 18000—GNSS MEA
* DME/DME/IRU MEA
EWESS, WV WP | ELKINS, WV VORTAC | * 18000 | 45000
* 18000—GNSS MEA
* DME/DME/IRU MEA
§ 95.4071 RNAV Route Q71 Is Added To Read
BOBBD, TN WP | ATUME, KY WP | * 18000 | 45000
* 18000—GNSS MEA
* DME/DME/IRU MEA
ATUME, KY WP | HAPKI, KY WP | * 18000 | 45000
* 18000—GNSS MEA
* DME/DME/IRU MEA
HAPKI, KY WP | KONGO, KY FIX | * 18000 | 45000
* 18000—GNSS MEA
* DME/DME/IRU MEA
KONGO, KY FIX | WISTA, WV WP | * 18000 | 45000
* 18000—GNSS MEA
* DME/DME/IRU MEA
WISTA, WV WP | GEFFS, WV FIX | * 18000 | 45000
* 18000—GNSS MEA
* DME/DME/IRU MEA
§ 95.4110 RNAV Route Q110 Is Amended By Adding
BLANS, IL WP | BETIE, TN WP | * 18000 | 45000
* 18000—GNSS MEA
* DME/DME/IRU MEA
BETIE, TN WP | SKIDO, AL WP | * 18000 | 45000
* 18000—GNSS MEA
* DME/DME/IRU MEA
SKIDO, AL WP | BFOLO, AL WP | * 18000 | 45000
* 18000—GNSS MEA
* DME/DME/IRU MEA
BFOLO, AL WP | JYROD, AL WP | * 18000 | 45000
* 18000—GNSS MEA
* DME/DME/IRU MEA
JYROD, AL WP | FEONA, GA WP | * 18000 | 45000
* 18000—GNSS MEA
* DME/DME/IRU MEA
Is Amended To Read in Part
FEONA, GA WP | GULFR, FL WP | * 18000 | 45000
* 18000—GNSS MEA
* DME/DME/IRU MEA
GULFR, FL WP | BRUTS, FL WP | * 18000 | 45000
* 18000—GNSS MEA
* DME/DME/IRU MEA
BRUTS, FL WP | KPASA, FL WP | * 18000 | 45000
* 18000—GNSS MEA
* DME/DME/IRU MEA
KPASA, FL WP | RVERO, FL WP | * 18000 | 45000
* 18000—GNSS MEA
* DME/DME/IRU MEA
RVERO, FL WP | JAYMC, FL WP | * 18000 | 45000
* 18000—GNSS MEA
* DME/DME/IRU MEA
JAYMC, FL WP | THNDR, FL FIX | * 18000 | 45000
* 18000—GNSS MEA
* DME/DME/IRU MEA
§ 95.4118 RNAV Route Q118 Is Amended By Adding
MARION, IN VOR/DME | HEVAN, IN WP | * 18000 | 45000
* 18000—GNSS MEA
* DME/DME/IRU MEA
HEVAN, IN WP | VOSTK, KY WP | * 18000 | 45000
* 18000—GNSS MEA
* DME/DME/IRU MEA
VOSTK, KY WP | HELUB, KY WP | * 18000 | 45000
* 18000—GNSS MEA
* DME/DME/IRU MEA
HELUB, KY WP | JEDER, KY WP | * 18000 | 45000
* 18000—GNSS MEA
* DME/DME/IRU MEA
JEDER, KY WP | GLAZR, TN WP | * 18000 | 45000
* 18000—GNSS MEA
* DME/DME/IRU MEA
GLAZR, TN WP | KAILL, GA WP | * 18000 | 45000
* 18000—GNSS MEA
* DME/DME/IRU MEA
KAILL, GA WP | JOHNN, GA FIX | * 18000 | 45000
* 18000—GNSS MEA
* DME/DME/IRU MEA
Is Amended To Read in Part
JOHNN, GA FIX | BRUTS, FL WP | * 18000 | 45000
* 18000—GNSS MEA
* DME/DME/IRU MEA
BRUTS, FL WP | KPASA, FL WP | * 18000 | 45000
* 18000—GNSS MEA
* DME/DME/IRU MEA

From | To | MEA
§ 95.6001 VICTOR Routes-U.S.
§ 95.6002 VOR Federal Airway V2 Is Amended To Read in Part
ELLENSBURG, WA VORTAC | PLUSS, WA FIX | 7000
PLUSS, WA FIX | MOSES LAKE, WA VOR/DME | 4000
§ 95.6006 VOR Federal Airway V6 Is Amended To Read in Part
NANCI, NY FIX | LA GUARDIA, NY VOR/DME | 2900
§ 95.6007 VOR Federal Airway V7 Is Amended To Read in Part
LAKELAND, FL VORTAC | * DADES, FL FIX | ** 2300
* 5000—MRA
** 1800—MOCA
* DADES, FL FIX | NITTS, FL FIX | ** 2300
* 5000—MRA
* *1800—MOCA
NITTS, FL FIX | * ORATE, FL FIX | ** 3000
* 3000—MRA
* *1700—MOCA
* ORATE, FL FIX | CROSS CITY, FL VORTAC | ** 2000
* 3000—MRA
* *1500—MOCA
§ 95.6013 VOR Federal Airway V13 Is Amended To Read in Part
TEXARKANA, AR VORTAC | DEENS, AR FIX
| SE BND | 2300
| NW BND | 4600
§ 95.6055 VOR Federal Airway V55 Is Amended To Read in Part
SIREN, WI VOR/DME | BRAINERD, MN VORTAC | * 6000
* 2800—MOCA
* 3000—GNSS MEA
§ 95.6083 VOR Federal Airway V83 Is Amended To Read in Part
CARLSBAD, NM VORTAC | * NELON, NM FIX | 5900
* 7000—MRA
NELON, NM FIX | CHISUM, NM VORTAC | 5900
* 7000—MRA
§ 95.6123 VOR Federal Airway V123 Is Amended To Read in Part
SWANN, MD FIX | * TACKS, MD FIX | ** 7000
* 7000—MCA TACKS, MD FIX, W BND
* *4000—GNSS MEA
MINKS, NJ FIX | LA GUARDIA, NY VOR/DME | 2900
§ 95.6124 VOR Federal Airway V124 Is Amended To Read in Part
DEENS, AR FIX | HOT SPRINGS, AR VOR/DME | * 5000
* 2700—MOCA
LITTLE ROCK, AR VORTAC | TAFTE, AR FIX | * 4000
* 1700—MOCA
TAFTE, AR FIX | * HILLE, AR FIX | ** 6000
* 6000—MRA
* *1600—MOCA
JACKS CREEK, TN VOR/DME | GRAHAM, TN VORTAC | 2600
§ 95.6129 VOR Federal Airway V129 Is Amended To Read in Part
PEORIA, IL VORTAC | GENSO, IL FIX | 2600
DAVENPORT, IA VORTAC | DUBUQUE, IA VORTAC | 2900
QUEST, WI FIX | NODINE, MN VORTAC | 3100
§ 95.6138 VOR Federal Airway V138 Is Amended To Read in Part
OMAHA, IA VORTAC | * MADUP, IA FIX | ** 4500
* 5500—MRA
* *3000—MOCA
* *3000—GNSS MEA
§ 95.6142 VOR Federal Airway V142 Is Amended To Read in Part
MALAD CITY, ID VOR/DME * | ORNEY, UT FIX | 10400
* 11200—MCA ORNEY, UT FIX, E BND
ORNEY, UT FIX | FORT BRIDGER, WY VOR/DME | 12200
§ 95.6157 VOR Federal Airway V157 Is Amended To Read in Part
LA BELLE, FL VORTAC | RINSE, FL FIX | * 2000
* 1500—MOCA
RINSE, FL FIX | LAKELAND, FL VORTAC | 2300
MINKS, NJ FIX | LA GUARDIA, NY VOR/DME | 2900
§ 95.6198 VOR Federal Airway V198 Is Amended To Read in Part
SEMINOLE, FL VORTAC | GREENVILLE, FL VORTAC | 2100
§ 95.6433 VOR Federal Airway V433 Is Amended To Read in Part
TICKL, NY FIX | LA GUARDIA, NY VOR/DME | 2900
§ 95.6445 VOR Federal Airway V445 Is Amended To Read in Part
NANCI, NY FIX | LA GUARDIA, NY VOR/DME | 2900
§ 95.6521 VOR Federal Airway V521 Is Amended To Read in Part
RUTHY, FL FIX | LEE COUNTY, FL VORTAC | 2300
LEE COUNTY, FL VORTAC | QUNCY, FL FIX | 2600
QUNCY, FL FIX | LAKELAND, FL VORTAC | 2300
LAKELAND, FL VORTAC | * DADES, FL FIX | ** 2300
* 5000—MRA
* *1800—MOCA
*DADES, FL FIX | NITTS, FL FIX | ** 2300
* 5000—MRA
* *1800—MOCA
NITTS, FL FIX | * ORATE, FL FIX | ** 3000
* 3000—MRA
* *1700—MOCA
* ORATE, FL FIX | CROSS CITY, FL VORTAC | ** 2000
* 3000—MRA
* *1500—MOCA
§ 95.6556 VOR Federal Airway V556 Is Amended To Read in Part
MARCS, TX FIX | SEEDS, TX FIX | * 7500
* 2000—MOCA
§ 95.6593 ALASKA VOR Federal Airway V593 Is Amended To Read in Part
BIORKA ISLAND, AK VORTAC | LYRIC, AK FIX.
| SE BND | * 6000
| NW BND | * 8000
* 4800—MOCA
LYRIC, AK FIX | SISTERS ISLAND, AK VORTAC | * 8000
* 5800—MOCA
* 5800—GNSS MEA

From | To | MEA | MAA
§ 95.7001 JET ROUTES
§ 95.7190 JET ROUTE J190 Is Amended To Read in Part
SLATE RUN, PA VORTAC | BINGHAMTON, NY VORTAC | #18000 | 45000
# USE SLATE RUN R-072 TO BINGHAMTON

[FR Doc. 2014-05765 Filed 3-17-14; 8:45 am]

BILLING CODE 4910-13-P